DEPARTMENT OF THE TREASURY

Internal Revenue Service

26 CFR Part 1

[REG-100163-00]

RIN 1545-AX73

Applying Section 197 to Partnerships; Hearing Cancellation

AGENCY: Internal Revenue Service (IRS), Treasury.

ACTION: Cancellation of notice of public hearing on proposed rulemaking.

SUMMARY: This document provides notice of cancellation of a public hearing on proposed regulations relating to the application of section 197 to partnerships.

DATES: The public hearing originally scheduled for Wednesday, May 24, 2000, at 10 a.m., is canceled.

FOR FURTHER INFORMATION CONTACT: Guy R. Traynor of the Regulations Unit, Assistant Chief Counsel (Corporate), at (202) 622-7180 (not a toll-free number).

SUPPLEMENTARY INFORMATION: A notice of proposed rulemaking and notice of public hearing that appeared in the Federal Register on January 25, 2000, (65 FR 3903), announced that a public hearing was scheduled for May 24, 2000, at 10 a.m., in room 2615, Internal Revenue Building, 1111 Constitution Avenue NW., Washington, DC. The subject of the public hearing is proposed regulations under section 197 of the Internal Revenue Code. The deadline for requests to speak and outlines of oral comments expired on May 3, 2000.

The notice of proposed rulemaking and notice of public hearing, instructed those interested in testifying at the public hearing to submit a request to speak and an outline of the topics to be addressed. As of May 9, 2000, no one has requested to speak. Therefore, the public hearing scheduled for May 24, 2000, is canceled.

Cynthia E. Grigsby,
Chief, Regulations Unit, Assistant Chief Counsel (Corporate).

[FR Doc. 00-12201 Filed 5-15-00; 8:45 am]

BILLING CODE 4830-01-P